NATIONAL SCIENCE FOUNDATION

Sunshine Act Meeting; National Science Board

The National Science Board's Awards and Facilities Committee, pursuant to NSF regulations (45 CFR part 614), the National Science Foundation Act, as amended (42 U.S.C. 1862n-5), and the Government in the Sunshine Act (5 U.S.C. 552b), hereby gives notice of the scheduling of a teleconference on short notice for the transaction of National Science Board business, as follows:

TIME AND DATE: October 17, 2017, from 1:00-2:00 p.m. EDT.

STATUS: Closed.

MATTERS TO BE CONSIDERED: (1) Committee Chair's opening remarks; (2) Update on Arecibo.

CONTACT PERSON FOR MORE INFORMATION: This meeting will be held by teleconference at the National Science Foundation, 2415 Eisenhower Avenue, Alexandria, VA 22314. Please refer to the National Science Board Web site www.nsf.gov/nsb for additional information. You can find meeting information and updates (time, place, subject or status of meeting) at https://www.nsf.gov/nsb/meetings/notices.jsp#sunshine. The point of contact for this meeting is: Elise Lipkowitz, elipkowi@nsf.gov, telephone: (703) 292-7000.

Chris Blair,
Executive Assistant to the NSB Office.

[FR Doc. 2017-22260 Filed 10-11-17; 11:15 am]

BILLING CODE 7555-01-P